DEPARTMENT OF COMMERCE

National Oceanic and Atmospheric Administration

Withdrawal of Notice of Intent To Prepare an Environmental Impact Statement for Monterey Bay Regional Water Project Desalination Facility

AGENCY: Office of National Marine Sanctuaries (ONMS), National Ocean Service (NOS), National Oceanic and Atmospheric Administration (NOAA), Department of Commerce (DOC).

ACTION: Withdrawal of notice of intent to prepare an environmental impact statement.

SUMMARY: NOAA's Office of National Marine Sanctuaries is issuing this notice to advise Federal, state, and local government agencies and the public that it is withdrawing its Notice of Intent to prepare a draft environmental impact statement for the proposed action to construct and operate a seawater reverse osmosis desalination facility and co-located seawater-cooled 150-megawatt computer data center campus project at Moss Landing, Monterey County, California. NOAA is terminating the review of this project under the National Environmental Policy Act because the proposed project scope has changed significantly.

FOR FURTHER INFORMATION CONTACT: Karen Grimmer, Resource Protection Coordinator, Monterey Bay National Marine Sanctuary, at karen.grimmer@noaa.gov, or by mail at 99 Pacific Street, Suite 455A, Monterey, California 93940.

SUPPLEMENTARY INFORMATION: NOAA published a Notice of Intent (NOI) in the Federal Register on June 1, 2015 (80 FR 31022), to prepare a joint environmental impact report (EIR)/environmental impact statement (EIS) with the California State Lands Commission (CSLC) in accordance with the National Environmental Policy Act (NEPA) and the California Environmental Quality Act. The joint EIR/EIS would have analyzed the impacts on the human environment resulting from DeepWater Desal's construction and operation of a seawater reverse osmosis (SWRO) desalination facility and co-located seawater-cooled 150-megawatt computer data center campus project (Project) at Moss Landing, Monterey County, California.

DeepWater Desal submitted an application for permit approval to Monterey Bay National Marine Sanctuary to construct and operate a SWRO desalination facility capable of producing 25,000 acre-feet per year of potable water and a co-located seawater-cooled computer data center campus on a 110-acre site located approximately 1.5 miles east of Moss Landing. Additional details about the Project are included in the NOI dated June 1, 2015. NOAA solicited public input on the scope of the analysis through a public comment period on the NOI from June 1, 2015, to July 1, 2015. NOAA received six comments in response to the notice, which are publicly available on http://www.regulations.gov under docket NOAA-NOS-2015-0069. NOAA and CSLC held a joint public scoping meeting for the project on Tuesday, June 16, 2015, and six commenters provided testimony.

NOAA is terminating the NEPA process and closing the Project's permit application because the permit applicant notified NOAA in May 2020 that the primary scope of the Project changed from desalination to land-based aquaculture. NOAA finds that the scope of the Project has changed significantly since publication of the 2015 NOI and the scoping process completed in 2015 is no longer relevant. Therefore, NOAA is withdrawing the NOI to prepare an EIS for this Project. Should NOAA receive a new permit application, NOAA will determine at that time what level of NEPA review is required for the project.

Authority: 16 U.S.C. 1431 et seq.; 40 CFR 1500-1508; Companion Manual for NOAA Administrative Order 216-6A, 82 FR 4306.

John Armor,
Director, Office of National Marine Sanctuaries National Ocean Service, National Oceanic and Atmospheric Administration.

[FR Doc. 2021-11714 Filed 6-3-21; 8:45 am]

BILLING CODE 3510-NK-P